SOCIAL SECURITY ADMINISTRATION

Agency Information Collection Activities: Comment Request

The Social Security Administration (SSA) publishes a list of information collection packages requiring clearance by the Office of Management and Budget (OMB) in compliance with Public Law 104-13, the Paperwork Reduction Act of 1995, effective October 1, 1995. This notice includes revisions and information collections in use without an OMB number.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB), Office of Management and Budget, Attn: Desk Officer for SSA, Fax: 202-395-6974, Email address: OIRA_Submission@omb.eop.gov.

(SSA), Social Security Administration, DCRDP, Attn: Reports Clearance Officer, 107 Altmeyer Building, 6401 Security Blvd., Baltimore, MD 21235, Fax: 410-965-6400, Email address: OPLM.RCO@ssa.gov.

SSA submitted the information collections below to OMB for clearance. Your comments regarding the information collections would be most useful if OMB and SSA receive them within 30 days from the date of this publication. To be sure we consider your comments, we must receive them no later than April 18, 2012. Individuals can obtain copies of the OMB clearance packages by calling the SSA Reports Clearance Officer at 410-965-8783 or by writing to the above email address.

1. Notice to Show Cause for Failure to Appear—20 CFR 404.938, 416.1438, 404.957(a)(ii)-0960-NEW. When claimants who requested a hearing before an administrative law judge (ALJ) fail to appear at their scheduled hearing, the ALJ may reschedule the hearing if the claimants establish good cause for missing the hearings. The claimants can provide a reason for not appearing at their scheduled hearings using Form HA-L90. If the ALJ determines the claimants established good cause for failure to appear at the hearing, the ALJ will schedule a supplemental hearing; if not, the ALJ makes a claims eligibility determination based on the claimants' evidence of record. Respondents are claimants seeking to show cause for failure to appear at a scheduled hearing before an ALJ.

Type of Request: Existing collection in use without an OMB number.

Collection instrument | Number of responses | Frequency of response | Average burden per response (minutes) | Estimated total annual burden (hours)
HA-L90 PDF/Paper | 7,000 | 1 | 10 | 1,167
Electronic Records Express | 28,000 | 1 | 10 | 4,667
Total | 35,000 |  |  | 5,834

2. Request for Documents or Information—20 CFR 404.703-0960-NEW. SSA asks individuals applying for Social Security benefits for additional information when the information they provided is incomplete or insufficient for us to determine their eligibility for benefits. SSA uses the SSA-2118-U2, Request for Documents or Information, to request the additional documents or information we need to process individuals' claims for benefits. Respondents are claimants for title II Social Security Old Age, Survivors, and Disability Insurance benefits.

Type of Request: Existing collection in use without an OMB number.

Collection instrument | Number of respondents | Frequency of response | Average burden per response (minutes) | Estimated total annual burden (hours)
SSA-2118-U2 | 7,500 | 1 | 5 | 625

3. Statement of Living Arrangements, In-Kind Support and Maintenance—20 CFR 416.1130-416.1148—0960-0174. SSA determines Supplemental Security Income (SSI) payment amounts based on applicants' and recipients' needs. We measure individuals' needs, in part, by the amount of income they receive, including in-kind support and maintenance in the form of food and shelter provided by other persons. SSA uses information from Form SSA-8006-F4 to determine if in-kind support and maintenance exists for SSI applicants and recipients. This information also assists SSA in determining the income value of in-kind support and maintenance SSI applicants and recipients receive. The respondents are individuals who apply for SSI payments, or who complete an SSI eligibility redeterminination.

Type of Request: Revision of an OMB-approved information collection.

Collection instrument | Number of respondents | Frequency of response | Average burden per response (minutes) | Estimated total annual burden (hours)
SSA-8006-F4 | 173,380 | 1 | 7 | 20,228

4. Statement of Funds You Provided to Another and Statement of Funds You Received—20 CFR 416.1103(f)—0960-0481. SSA uses Forms SSA-2854 and SSA-2855 to gather information to verify if a loan is bona fide for SSI recipients. The SSA-2854 asks the lender for details on the transaction, and Form SSA-2855 asks the borrower the same basic questions independently. Agency personnel then compare the two statements, gather evidence if needed, and make a decision on the validity of the bona fide status of the loan.

For SSI purposes, we consider a loan bona fide if it meets these requirements:

• Must be between a borrower and lender with the understanding that the borrower has an obligation to repay the money;

• Must be in effect at the time the cash goes to the borrower, that is, the agreement cannot come after the cash is paid; and

• Must be enforceable under State law; often there are additional requirements from the State.

SSA collects this information at the time of initial application for SSI or at any point when an individual alleges being party to an informal loan while receiving SSI. SSA collects information on the informal loan through both interviews and mailed forms. The agency's field personnel conduct the interviews and mail the form(s) for completion, as needed. The respondents are SSI recipients and applicants, and individuals who lend money to them.

Type of Request: Revision of an OMB-approved information collection.

Form | Number of respondents | Frequency of response | Average burden per response (minutes) | Estimated total annual burden (hours)
SSA-2854 | 20,000 | 1 | 10 | 3,333
SSA-2855 | 20,000 | 1 | 10 | 3,333
Totals | 40,000 |  |  | 6,666

5. Certification of Low Birth Weight for SSI Eligibility of Funds You Provided to Another and Statement of Funds You Received—20 CFR 416.931, 416.926a(m), and 416.924—0960-0720. Hospitals and claimants use Form SSA-3380 to provide medical information to local field offices (FO) and the Disability Determination Services (DDS) on behalf of infants with low birth weight. FOs use the form as a protective filing statement and the medical information to make presumptive disability findings, which allow expedited payment to eligible claimants. DDSs use the medical information to determine disability and continuing disability. The respondents are hospitals and claimants who have information identifying low birth weight babies and their medical conditions.

This is a correction notice. SSA published this information collection as an extension on January 3, 2012 at 77 FR 147. Since we are revising the Privacy Act Statement, this is actually a revision of an OMB-approved information collection.

Type of Request: Revision of an OMB-approved information collection.

Collection instrument | Number of respondents | Frequency of response | Average burden of response (minutes) | Estimated total annual burden (hours)
SSA-3380 | 24,000 | 1 | 15 | 6,000

Dated: March 14, 2012.
Faye Lipsky,
Reports Clearance Director, Office of Regulations and Reports Clearance, Social Security Administration.

[FR Doc. 2012-6499 Filed 3-16-12; 8:45 am]

BILLING CODE 4191-02-P